DEPARTMENT OF TRANSPORTATION

Federal Aviation Administration

Agency Information Collection Activity Under OMB Review

AGENCY: Federal Aviation Administration (FAA), DOT.

ACTION: Notice.

SUMMARY: In compliance with the Paperwork Reduction Act of 1995 (44 U.S.C. 3501 et seq.), this notice announces that the Information Collection Request (ICR) abstracted below has been forwarded to the Office of Management and Budget (OMB) for extension of the currently approved collection. The IRC describes the nature of the information collection and the expected burden. The Federal Register Notice with a 60-day comment period soliciting comments on the following collection of information was published in April 21, 2004, page 21595.

DATES: Comments must be submitted on or before November 8, 2004. A comment to OMB is most effective if OMB receives it within 30 days of publication.

FOR FURTHER INFORMATION CONTACT: Judy Street on (202) 267-9895.

SUPPLEMENTARY INFORMATION:

Federal Aviation Administration (FAA)

Title: NAS Data Release Request.

Type of Request: Extension of a currently approved collection.

OMB Control Number: 2120-0668.

Forms(s): FAA Form 1200-5

Affected Public: A total of 9 reporting regions.

Abstract: This information must be collected to enable the FAA to evaluate the validity of the user's request for National Airspace Data (NAS) from FAA systems and equipment. This data collection is the genesis for granting approval to release filtered, NAS data to vendors. The information provided sets the criteria for the FAA Data Release Request Committee (DRRC) to approve or disapprove individual requests for NAS data. FAA Order 1200.22C, Data and Interface Equipment Used By Outside Interests, paragraph 7, Policy, a-j, states the FAA policy for releasing filtered NAS data to requestors.

Estimated Annual Burden Hours: An estimated 27 hours annually.

ADDRESSES: Send comments to the Office of Information and Regulatory Affairs, Office of Management and Budget, 725 17th Street, NW., Washington, DC 20503, Attention FAA Desk Officer.

Comments are invited on: Whether the proposed collection of information is necessary for the proper performance of the functions of the Department, including whether the information will have practical utility; the accuracy of the Department's estimates of the burden of the proposed information collection; ways to enhance the quality, utility and clarity of the information to be collected; and ways to minimize the burden of the collection of information on respondents, including the use of automated collection techniques or other forms of information technology.

Issued in Washington, DC on September 24, 2004.
Judith D. Street,
FAA Information Collection Clearance Officer, Standards and Information Division, APF-100.

[FR Doc. 04-22616 Filed 10-7-04; 8:45 am]

BILLING CODE 4910-13-M